DEPARTMENT OF DEFENSE

Office of the Secretary

[Docket ID: DOD-2011-OS-0126]

Proposed Collection; Comment Request

AGENCY: Defense Security Service, DoD.

ACTION: Notice.

SUMMARY: In compliance with Section 3506(c)(2)(A) of the Paperwork Reduction Act of 1995, DSS announces the proposed extension of a public information collection and seeks public comments on the provision thereof. Comments are invited on: (a) Whether the proposed collection is necessary for the proper performance of the functions of the agency, including whether the information shall have practical utility; (b) the accuracy of the agency's estimate of the burden of the information to be collected; (c) ways to enhance the quality, utility and clarity of the information to be collected; and (d) ways to minimize the burden of the information collection on respondents, including through the use of automated collection techniques or other forms of information technology.

DATES: Consideration will be given to all comments received by January 17, 2012.

ADDRESSES: You may submit comments, identified by docket number and title, by any of the following methods:

• Federal Rule Making Portal: http://www.regulations.gov

Follow the instructions for submitting comments

• Mail: Federal Docket Management System Office, 4800 Mark Center Drive, 2nd Floor, East Tower, Suite 02G09, Alexandria, VA 22350-3100.

Instructions: All submissions received must include agency name, docket number, and title for this Federal Register document. The general policy of comments and other submissions from members of the public is to make these submissions available for public viewing on the internet at http://www.regulations.gov as they are received without change, including any personal identifiers or contract information.

FOR FURTHER INFORMATION CONTACT: To request more information on this proposed information collection or obtain a copy of the proposal and associated collection instrument, please write to: Defense Security Service, OCIO, ATTN: Mr. Prakash Kollaram, Russell-Knox Building, 27130 Telegraph Road, Quantico, VA 22134-2253, or call Defense Security Service at (571) 305-6445.

Title and OMB Number: “Defense Security Service Industrial Security Review Data” and “Defense Security Service Industrial Security Facility Clearance Survey Data,” OMB No. 0704-0427.

Needs and Uses: The conduct of an Industrial Security Review and/or Industrial Security Facility Security Survey assists in determining whether a contractor is eligible to establish its facility security clearance and/or retain its participation in the National Industrial Security Program (NISP). It is also the basis for verifying whether contractors are appropriately implementing NISP security requirements. These requirements are necessary in order to preserve and maintain the security of the United States through establishing standards to prevent the improper disclosure of classified information.

In accordance with Department of Defense (DoD), 5220.22-R, “Industrial Security Regulation,” DSS is required to maintain a record of the results of surveys and security reviews. Documentation for each survey and/or security review will be compiled addressing areas applicable to the contractor's security program. Portions of the data collected will be stored in databases. All data collected will be handled and marked “For Official Use Only.”

Affected Public: Businesses, universities, partnerships, or other profit and non-profit organizations under DoD security cognizance

Respondent burden:

Industrial security review data:

Total annual burden hours: 41,536 hours.

Total number of respondents: 13,140.

Possessors of classified: 4,623.

Non-Possessors of classified: 8,517.

Responses per respondent: 1.

Average burden hours per respondent:

Possessors of classified: 5.3 hours.

Non-Possessors of classified: 2 hours.

Frequency: Periodic (e.g., Possessors—annually, Non-Possessors—18 months, compliance reviews, or when directed).

Industrial security facility clearance survey data:

Total annual burden hours: 4,902 hours.

Number of respondents: 2,451.

Responses per respondent: 1.

Average burden hours per respondent: 2 hours.

Frequency: On occasion (e.g., initial eligibility determination and when condition significantly changes, such as a change in ownership).

SUPPLEMENTARY INFORMATION:

Summary of Information Collection

Executive Order (EO) 12829, “National Industrial Security Program (NISP),” January 6, 1993, as amended by EO 12885, December 14, 1993, established the NISP to safeguard federal government classified information released to contractors, licensees, and grantees of the US government. Section 202(a) of EO 12829 stipulates that the Secretary of Defense shall serve as the Executive Agent for inspecting and monitoring the contractors, licensees, and grantees who require or will require access to or who store or will store classified information; and for determining the eligibility for access to classified information of contractors, licensees, grantees, and their respective employees. The specific requirements necessary to protect classified information released to private industry are set forth in DoD 5220.22M, “National Industrial Security Program Operating Manual (NISPOM),” February 28, 2006. The Executive Agent has the authority to issue, after consultation with affected agencies, standard forms or other standardization that will promote the implementation of the NISP. Contractors operating under DoD security cognizance are subject to an initial facility clearance survey and periodic government security reviews to determine their eligibility to participate in the NISP and ensure that safeguards employed are adequate for the protection of classified information.

DoD Directive 5105.42, “Defense Security Service,” August 30, 2010, incorporating Change 1, March 31, 2011, delineates the mission, functions, and responsibilities of DSS. DSS is an agency of the DoD under authority, direction, and control of the Under Secretary of Defense for Intelligence. DSS functions and responsibilities include the administration and implementation of the Defense portion of the NISP pursuant to EO 12829.

DSS is the office of record for the maintenance of information pertaining to contractor facility clearance records and industrial security information regarding cleared contractors under its cognizance. To the extent possible, information required as part of the survey or security review is obtained as a result of observation by the representative of the Cognizant Security Agency or its designated Cognizant Security Office. Some of the information may be obtained based on conferences with Key Management Personnel and/or other employees of the company. The information is used to respond to all inquires regarding the facility clearance status and classified information storage capability of cleared contractors. It is also used to assess and/or advise Government Contracting Activities regarding any particular contractor's continued ability to protect classified information.

Dated: November 10, 2011.
Aaron Siegel,
Alternate OSD Federal Register Liaison Officer, Department of Defense.

[FR Doc. 2011-29532 Filed 11-15-11; 8:45 am]

BILLING CODE 5001-06-P